DEPARTMENT OF DEFENSE

Department of the Army

Performance Review Board Membership

AGENCY: Department of the Army, DoD.

ACTION: Notice.

SUMMARY: The original notice of the list of participants for the Performance Review Board Membership published in the Federal Register on Friday, November 3, 2017. There is an additional participant to add to the list: MG Michael Wehr, Deputy Chief of Engineers/Deputy Commanding General, U.S. Army Corps of Engineers, Washington, DC.

DATES: The term began on November 1, 2017.

FOR FURTHER INFORMATION CONTACT: Barbara Smith, Civilian Senior Leader Management Office, 111 Army Pentagon, Washington, DC 20310-0111, (703) 693-1126.

SUPPLEMENTARY INFORMATION: None.

Brenda S. Bowen,
Army Federal Register Liaison Officer.

[FR Doc. 2017-26050 Filed 12-1-17; 8:45 am]

BILLING CODE 5001-03-P